DEPARTMENT OF TRANSPORTATION

Federal Motor Carrier Safety Administration

[Docket No. FMCSA-2011-0279]

Agency Information Collection Activities; Emergency Approval of a New Information Collection: Motorcoach Passenger and Driver Survey: Motorcoach Safety and Pre-Trip Safety Awareness and Emergency Preparedness Information

AGENCY: Federal Motor Carrier Safety Administration (FMCSA), DOT.

ACTION: Notice and request for information.

SUMMARY: In accordance with the Paperwork Reduction Act of 1995, FMCSA announces that the Information Collection Request (ICR) described below will be submitted to the Office of Management and Budget (OMB) for emergency approval. FMCSA requests approval of this ICR by 30 days from the publication of this notice. The purpose of this information collection is to assess the current levels of voluntary compliance by motorcoach operators to provide pre-trip safety awareness and emergency preparedness information to passengers and to obtain passenger opinions of the implementation of the pre-trip program and any recommended improvements. The Department of Transportation (DOT) and FMCSA will use this data to further inform future policy and regulatory decisions, as well as other initiatives to improve motorcoach safety in the United States.

DATES: Please send your comments by November 17, 2011.

ADDRESSES: All comments should reference Federal Docket Management System (FDMS) Docket Number FMCSA-2011-0297. Interested persons are invited to submit written comments on the proposed information collection to the Office of Information and Regulatory Affairs, Office of Management and Budget. Comments should be addressed to the attention of the Desk Officer, Department of Transportation/Federal Motor Carrier Safety Administration, and sent via electronic mail to http://www.regulations.gov or faxed to (202) 395-7245, or mailed to the Office of Information and Regulatory Affairs, Office of Management and Budget, Docket Library, Room 10102, 725 17th Street, NW., Washington, DC 20503.

FOR FURTHER INFORMATION CONTACT: Dee Williams, Office of Policy, Plans, and Regulations, Strategic Planning and Program Evaluation Division Chief, U.S. Department of Transportation, Federal Motor Carrier Safety Administration, 6th Floor, West Building, 1200 New Jersey Avenue, SE., Washington, DC 20590-0001. Telephone: (202) 493-0192; E-mail Address: dee.williams@dot.gov. Office hours are from 9 a.m. to 5 p.m., Monday through Friday, except Federal Holidays.

SUPPLEMENTARY INFORMATION: Title: Motorcoach Passenger and Driver Survey: Motorcoach Safety and Pre-Trip Safety Awareness and Emergency Preparedness Information.

OMB Control Number: 2126-XXXX.

Type of Request: New information collection.

Respondents: Motorcoach passengers and drivers.

Estimated Number of Respondents: 1,050 respondents.

Estimated Time per Response: 10 minutes.

Form Numbers: Form MCSA-5868, Motorcoach Passenger Survey: Pre-Trip Safety Awareness and Emergency Preparedness Information—To collect motorcoach passengers' responses during five one-shot in-person survey events.

Form MCSA-5869, Motorcoach Driver Survey: Pre-Trip Safety Awareness and Emergency Preparedness Information—To collect motorcoach drivers' responses during five one-shot in-person survey events.

Expiration Date: N/A. This is a new information collection.

Frequency of Response: One-time.

Estimated Total Annual Burden: 175 hours [1,050 respondents × 10 minutes/60 minutes = 175 hours].

Background

Due to several recent fatal motorcoach crashes, Congress, DOT, specifically FMCSA, and other Federal oversight agencies, including the National Transportation Safety Board (NTSB), are increasing their scrutiny over the motorcoach industry and the enforcement of and compliance with the Federal Motor Carrier Safety Regulations (FMCSRs). NTSB issued a Safety Recommendation to DOT, H-99-08, requiring motorcoach operators to provide passengers with pre-trip safety awareness information. This recommendation resulted from NTSB's investigation of two motorcoach crashes from the late 1990s which revealed that passengers felt a general sense of panic not knowing what to do on a motorcoach in the case of an emergency. The intent of the recommendation is to empower passengers to take their personal safety into their own hands in the event of an imminent hazard or emergency situation. To address the recommendations issued by NTSB, FMCSA formed a work group that included representatives from the motorcoach industry, motorcoach manufacturers, insurance industry, safety consulting industry, trade associations, State agencies, and other Federal regulatory agencies. The work group decided to address the recommendation by having the motorcoach industry provide pre-trip safety briefings on a voluntary basis.

FMCSA is concerned about the accuracy of self-reported data provided by motorcoach operators and requires third party validation of industry efforts to provide this information to passengers, as well as the effectiveness of the means by which the information is being provided. Currently, compliance is measured during FMCSA's National Passenger Carrier Strike Forces. The data received from these Strike Forces has shown increased adoption levels, however this data is based solely on input from the motorcoach companies and not actual passengers. FMCSA would like to verify that voluntary compliance continues to increase, using different sources, and also collect information on the effectiveness of compliance. FMCSA intends to use this data to address passenger concerns and to provide NTSB and Congress with additional data on voluntary compliance levels.

The goals and objectives of this survey are to assess the current levels of voluntary compliance by motorcoach operators and to obtain passenger opinions of the implementation of the pre-trip safety awareness and emergency preparedness information. This will help eliminate any self-reporting biases by the motorcoach companies; and determine whether the pre-trip safety information is being provided and if it is effective. The Form MCSA-5868 will be used to survey motorcoach passengers and the Form MCSA-5869 will be used to survey motorcoach drivers. The DOT and FMCSA will use this data to further inform future policy and regulatory decisions, as well as other initiatives to improve motorcoach safety in the United States.

Public Comments Invited

The Agency requests emergency processing of this information request. The information collection is essential to FMCSA's safety mission: to reduce crashes, injuries, and fatalities involving large trucks and buses. Expedited review is necessary so FMCSA can use the results to further inform Departmental and Agency efforts currently underway to improve passenger safety. In light of recent fatal crashes, FMCSA believes delay in collection of this information could result in harm to motorcoach passenger safety. You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

Issued on: October 12, 2011.
Kelly Leone,
Associate Administrator for Research and Information Technology.

[FR Doc. 2011-26936 Filed 10-17-11; 8:45 am]

BILLING CODE 4910-EX-P